DEPARTMENT OF ENERGY

Federal Energy Regulatory Commission

[Docket No. CP19-471-000]

Bluewater Gas Storage, LLC; Notice of Revised Schedule for Environmental Review of the Bluewater Compression Project

This notice identifies the Federal Energy Regulatory Commission staff's revised schedule for the completion of the environmental assessment (EA) for Bluewater Gas Storage, LLC's (Bluewater) Bluewater Compression Project. The first notice of schedule, issued on July 19, 2019 identified December 2, 2019 as the EA issuance date. Commission staff identified additional data required to assess alternatives, visual impacts, and other resources areas and issued data requests on November 6 and November 14, 2019. Bluewater filed responses on November 12 and November 22, 2019 and stated that updated exhibits would be filed the week of December 2, 2019. As a result, staff has revised the schedule for issuance of the EA. The revised schedule for the EA assumes Bluewater will meet its commitment to provide complete responses to outstanding data requests on the dates it has identified.

Schedule for Environmental Review

Issuance of Notice of Availability of the EA—January 17, 2020

90-day Federal Authorization Decision Deadline—April 17, 2020

If a schedule change becomes necessary, an additional notice will be provided to inform interested parties of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the “eLibrary” link, select “General Search” from the eLibrary menu, enter the selected date range and “Docket Number” excluding the last three digits (i.e., CP19-471), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 27, 2019.
Nathaniel J. Davis, Sr.,
Deputy Secretary.

[FR Doc. 2019-26198 Filed 12-3-19; 8:45 am]

BILLING CODE 6717-01-P